DEPARTMENT OF HEALTH AND HUMAN SERVICES

National Institutes of Health

National Institute of Environmental Health Sciences; Amended Notice of Meeting

Notice is hereby given of a change in the meeting of the National Advisory Environmental Health Sciences Council, May 15, 2000, 8:30 AM to May 16, 2000, 2:00 PM, Building 31C, Conference Room 6, National Institutes of Health, 3100 Center Drive, Bethesda, MD, 20892 which was published in the Federal Register on April 13, 2000, 65 FR 19916.

The NAEHSC meeting will be held for one day on May 15, 2000. The Open and Closed Sessions will be as follows: Open 8:30 a.m. to 1:15 p.m. and Closed 1:30 p.m. to 4:30 p.m. The meeting is partially Closed to the public.

Dated: May 1, 2000.
Anna Snouffer,
Acting Director, Office of Federal Advisory Committee Policy.

[FR Doc. 00-11436 Filed 5-5-00; 8:45 am]

BILLING CODE 4140-01-M